DEPARTMENT OF TRANSPORTATION

Federal Aviation Administration

Notice to Manufacturers of Lithium-ion Secondary Cell Battery Packs or Comparable Secondary Cell Battery Packs

AGENCY: Federal Aviation Administration (FAA), U.S. DOT.

ACTION: Notice; Request for Information.

SUMMARY: Projects funded under the Airport Improvement Program (AIP) must meet the requirements of Title 49 Buy American Preferences. The FAA is considering issuing waivers to foreign manufacturers of Lithium-ion Secondary Cell Battery Packs, or any comparable secondary cell battery packs, that meet the requirements of eligible airport-dedicated vehicles identified in Title 49 Zero-Emission Airport Vehicles and Infrastructure Program. This section allows the FAA to award Airport Improvement Program (AIP) grant funds for the acquisition and operation of zero-emissions vehicles (ZEVs) at an airport, including the construction or modification of infrastructure to facilitate the delivery of fuel and services necessary for the use of such vehicles. The FAA is requesting any information from battery makers on the availability of lithium-ion secondary cell battery packs or comparable products manufactured in the U.S. and capable of meeting heavy-duty transit applications of the ZEV and “FAA Buy American” requirements of the AIP.

DATES: Information requested must be received by January 16, 2019.

FOR FURTHER INFORMATION CONTACT: Carlos N. Fields, Airport Planning and Programming, APP 520, Room 619, FAA, 800 Independence Avenue SW, Washington, DC 20591; telephone (202) 267-8826; email carlos.fields@faa.gov.

SUPPLEMENTARY INFORMATION: The FAA manages a Federal grant program for the planning and development of public-use airports called the Airport Improvement Program (AIP). AIP grant funds support awards made to eligible projects under the Airport Zero Emissions Vehicle (ZEV) and Infrastructure Pilot Program. All AIP grant recipients, regardless of program affiliation, must follow Title 49, U.S.C. 50101, Buy American Preferences.

Under Title 49, U.S.C. 50101(b)(2), the Secretary of Transportation may waive the Buy American Preference requirement if the goods are not produced in a sufficient and reasonably available amount or are not of a satisfactory quality.

The purpose of this notice is to request manufacturers of small-form-factor secondary cells meeting the needs of particular airport applications, including heavy-duty transit equipment under the ZEV program, to submit a statement of interest and product description, a completed FAA Product Content Percentage Worksheet, and Product Final Assembly Questionnaire. Both forms are located on the FAA website: https://www.faa.gov/airports/aip/buy_american/. The submission must be sent via email and on company letterhead.

The FAA needs to determine if there is a sufficient quantity of lithium (or comparable) secondary cells produced in the United States capable of meeting the requirements to equip eligible airport-dedicated vehicles identified in Title 49, U.S.C. 47136a, Zero-Emission Airport Vehicles and Infrastructure.

If the FAA finds that lithium or comparable cells produced in the United States are not sufficiently available in both quantity and quality, then it may recommend to the Secretary of Transportation to issue a nationwide waiver to the foreign manufacturer(s) identified as being capable of meeting the technical requirements of eligible airport-dedicated vehicles identified in Title 49, U.S.C. 47136a, Zero-Emission Airport Vehicles and Infrastructure.

The FAA may recommend final approval of the waiver to the Secretary of Transportation, who has final decision authority.

Waivers will not be issued for manufacturers that do not fully meet the technical requirements. This “nationwide waiver” would signify the eligibility of equipment to be used on airport projects without having to receive separate project specific waivers. Having a nationwide waiver allows projects to start quickly without have to wait for the Buy American analysis to be completed for every project.

Issued in Washington, DC on December 11, 2018.
Michael S. Hines,
Acting Manager, Airports Financial Assistance Division.

[FR Doc. 2018-27252 Filed 12-14-18; 8:45 am]

BILLING CODE 4910-13-P